DEPARTMENT OF THE INTERIOR

Bureau of Ocean Energy Management

[MMAA 104000]

Outer Continental Shelf (OCS), Alaska OCS Region, Chukchi Sea Planning Area, Proposed Oil and Gas Lease Sale 237 (Lease Sale 237)

AGENCY: Bureau of Ocean Energy Management (BOEM), Interior.

ACTION: Notice of Comment Period Extension for a Call for Information and Nominations.

SUMMARY: This Notice informs readers that BOEM is extending the deadline for submitting responses to the Call for Information and Nominations (“Call”) for Chukchi Sea Oil and Gas Lease Sale 237. The Call was initially published as docket number 2013-23670 and amended docket number 2013-24053 with a November 18, 2013 comment deadline. Pursuant to this Notice, all responses to the Call must now be received no later than December 3, 2013. The Call is the initial step in the pre-lease process for Oil and Gas Lease Sale 237 in the Chukchi Sea Planning Area, tentatively scheduled to be held in 2016, as included in the OCS Oil and Gas Leasing Program 2012-2017. The purpose of the Call is to obtain nominations and information on oil and gas leasing, exploration, and development that might result from an OCS oil and gas lease sale for the Chukchi Sea Planning Area.

DATES: All responses to the Call must be received no later than December 3, 2013.

FOR FURTHER INFORMATION CONTACT: Michael S. Rolland, Chief, Leasing Section, BOEM, Alaska OCS Region, 3801 Centerpoint Drive, Ste. 500, Anchorage, AK 99503-5823, or at (907) 334-5271.

SUPPLEMENTARY INFORMATION:

As published in the Federal Register on September 27, 2013 (78 FR 59715), and amended on October 2, 2013 (78 FR 60892), the Call's submission deadline was November 18, 2013. Pursuant to this Notice, the Call's submission deadline is being extended to December 3, 2013, due to the government shutdown between October 1 and October 16, 2013. During the government shutdown, information cited in the Call may have been unavailable to the public on the BOEM Web site. BOEM staff were also not available to respond to inquiries regarding the Call. In addition, the government shutdown delayed continued consultation with other Federal agencies. For the reasons cited above, the comment period deadline in the Call notices published on September 27, 2013 (78 FR 59715), and amended on October 2, 2013 (78 FR 60892), are hereby updated to reflect a new December 3, 2013 comment period deadline. All other information and procedures identified in those Call notices, including the methods for submission of responses and nominations, remain in effect.

Dated: November 8, 2013.
Tommy P. Beaudreau,
Director, Bureau of Ocean Energy Management.

[FR Doc. 2013-27308 Filed 11-13-13; 8:45 am]

BILLING CODE 4310-MR-P